SECURITIES AND EXCHANGE COMMISSION

[Release No. 34-88483; File No. SR-MIAX-2020-02]

Self-Regulatory Organizations; Miami International Securities Exchange, LLC; Notice of Withdrawal of a Proposed Rule Change To Amend MIAX Chapter XVII, Consolidated Audit Trail Compliance Rule

March 27, 2020.

On January 24, 2020, Miami International Securities Exchange, LLC (“MIAX Options”) filed with the Securities and Exchange Commission (“Commission”), pursuant to Section 19(b)(1) of the Securities Exchange Act of 1934 (“Act”) ¹ and Rule 19b-4 thereunder,² a proposed rule change to amend MIAX Options Chapter XVII, Consolidated Audit Trail Compliance Rule. The proposed rule change was published for comment in the Federal Register on February 5, 2020.³ On March 16, 2020, MIAX Options withdrew the proposed rule change (SR-MIAX-2020-02).

¹ 15 U.S.C. 78s(b)(1).

² 17 CFR 240.19b-4.

³ See Securities Exchange Act Release No. 88096 (January 30, 2020), 85 FR 6613.

⁴ 17 CFR 200.30-3(a)(12).

For the Commission, by the Division of Trading and Markets, pursuant to delegated authority.⁴
J. Matthew DeLesDernier,
Assistant Secretary.

[FR Doc. 2020-06738 Filed 3-31-20; 8:45 am]

BILLING CODE 8011-01-P